DEPARTMENT OF ENERGY

Office of Energy Efficiency and Renewable Energy

[Case No. VHE-001]

Publication of the Petition for Waiver From Empire Comfort Systems From the Department of Energy Vented Home Heating Equipment Test Procedure

AGENCY: Office of Energy Efficiency and Renewable Energy, Department of Energy.

ACTION: Notice of re-opening of public comment period.

SUMMARY: On November 3, 2011, DOE published the Empire Comfort Systems Inc. (Empire) petition for waiver from the vented home heating equipment test procedure. This document announces that the period for submitting comments on the Empire petition for waiver is re-opened until March 2, 2012.

DATES: The comment period for the Empire petition for waiver, published on November 3, 2011 (76 FR 68180), is reopened. DOE will accept comments, data, and information regarding the petition for waiver received no later than March 2, 2012.

ADDRESSES: Any comments submitted must identify the Empire Comfort Systems Inc. petition for waiver, and provide case number VHE-001. Comments may be submitted using any of the following methods:

• Federal eRulemaking Portal: http://www.regulations.gov. Follow the instructions for submitting comments.

• Email: AS_Waiver_Requests@ee.doe.gov Include the case number [Case No. VHE-001] in the subject line of the message.

• Mail: Ms. Brenda Edwards, U.S. Department of Energy, Building Technologies Program, Mailstop EE-2J/1000 Independence Avenue SW., Washington, DC 20585-0121. Telephone: (202) 586-2945. Please submit one signed original paper copy.

• Hand Delivery/Courier: Ms. Brenda Edwards, U.S. Department of Energy, Building Technologies Program, 950 L'Enfant Plaza SW., Suite 600, Washington, DC 20024. Please submit one signed original paper copy.

Docket: For access to the docket to read background documents or comments received, visit the U.S. Department of Energy, Resource Room of the Building Technologies Program, 950 L'Enfant Plaza SW., 6th Floor, Washington, DC 20024, (202) 586-2945, between 9 a.m. and 4 p.m. Monday through Friday, except Federal holidays. Please call Ms. Brenda Edwards at the above telephone number for additional information.

FOR FURTHER INFORMATION CONTACT: Dr. Michael G. Raymond, U.S. Department of Energy, Building Technologies Program, Mail Stop EE-2J, Forrestal Building, 1000 Independence Avenue SW., Washington, DC 20585-0121. Telephone: (202) 586-9611. Email: Michael.Raymond@ee.doe.gov.

SUPPLEMENTARY INFORMATION: On November 3, 2011, DOE published the Empire petition for waiver from the vented home heating equipment test procedure in the Federal Register (76 FR 68180). The notice provided for the submission of comments by December 5, 2011. To provide all manufacturers of domestically marketed units of the same product type additional time to submit comments subsequent to notification that the Petition for Waiver was published in the Federal Register, DOE has determined that re-opening of the public comment period is appropriate and is hereby re-opening the comment period. DOE will consider any comments received by March 2, 2012 and deems any comments received between February 1, 2012 and March 2, 2012 to be timely submitted.

Further Information on Submitting Comments

Under 10 CFR part 1004.11, any person submitting information that he or she believes to be confidential and exempt by law from public disclosure should submit two copies: one copy of the document including all the information believed to be confidential, and one copy of the document with the information believed to be confidential deleted. DOE will make its own determination about the confidential status of the information and treat it according to its determination.

Factors of interest to DOE when evaluating requests to treat submitted information as confidential include (1) a description of the items, (2) whether and why such items are customarily treated as confidential within the industry, (3) whether the information is generally known by or available from other sources, (4) whether the information has previously been made available to others without obligation concerning its confidentiality, (5) an explanation of the competitive injury to the submitting person which would result from public disclosure, (6) when such information might lose its confidential character due to the passage of time, and (7) why disclosure of the information would be contrary to the public interest.

Issued in Washington, DC, on January 25, 2012.
Kathleen B. Hogan,
Deputy Assistant Secretary for Energy Efficiency, Energy Efficiency and Renewable Energy.

[FR Doc. 2012-2181 Filed 1-31-12; 8:45 am]

BILLING CODE 6450-01-P